DEPARTMENT OF ENERGY

Federal Energy Regulatory Commission

Combined Notice of Filings #1

Take notice that the Commission received the following electric corporate filings:

Docket Numbers: EC06-129-006.

Applicants: Capital Research and Management Company, Capital Group International, Inc.

Description: Request for Amended Order Under Section 203 of the Federal Power Act of Capital Research and Management Company, et al.

Filed Date: 10/8/15.

Accession Number: 20151008-5077.

Comments Due: 5 p.m. ET 10/29/15.

Docket Numbers: EC15-215-000.

Applicants: RPA Energy, Inc.

Description: Supplement to September 29, 2015 Application for Authorization under Section 203 of the Federal Power Act and Request for a Shortened Comment Period of RPA Energy, Inc.

Filed Date: 10/7/15.

Accession Number: 20151007-5247.

Comments Due: 5 p.m. ET 10/16/15.

Take notice that the Commission received the following exempt wholesale generator filings:

Docket Numbers: EG16-5-000.

Applicants: Seville Solar Two, LLC.

Description: Notice of Self-Certification of Exempt Wholesale Generator Status of Seville Solar Two, LLC.

Filed Date: 10/8/15.

Accession Number: 20151008-5087.

Comments Due: 5 p.m. ET 10/29/15.

Take notice that the Commission received the following electric rate filings:

Docket Numbers: ER10-2331-040; ER14-630-017; ER10-2319-032; ER10-2317-032; ER13-1351-014; ER10-2330-039.

Applicants: J.P. Morgan Ventures Energy Corporation, AlphaGen Power LLC, BE Alabama LLC, BE CA LLC, Florida Power Development LLC, Utility Contract Funding, L.L.C.

Description: Notice of Non-Material Change in Status of the J.P. Morgan Sellers.

Filed Date: 10/7/15.

Accession Number: 20151007-5156.

Comments Due: 5 p.m. ET 10/28/15.

Docket Numbers: ER11-4380-005; ER13-1562-004; ER13-1641-002; ER10-2434-006; ER10-2467-006; ER10-2488-012; ER12-1931-006; ER15-1045-001;ER10-2504-007; ER12-610-007; ER13-338-006;ER12-2037-006; ER12-2314-005; ER10-2436-006;ER11-4381-005.

Applicants: Bellevue Solar, LLC, Catalina Solar Lessee, LLC, Chestnut Flats Lessee, LLC, Fenton Power Partners I, LLC, Hoosier Wind Project, LLC, Oasis Power Partners, LLC, Pacific Wind Lessee, LLC, Pilot Hill Wind, LLC, Shiloh Wind Project 2, LLC, Shiloh III Lessee, LLC, Shiloh IV Lessee, LLC, Spearville 3, LLC, Spinning Spur Wind LLC, Wapsipinicon Wind Project, LLC, Yamhill Solar, LLC.

Description: Notice of Change in Status of the EDF-RE MBR Companies.

Filed Date: 10/7/15.

Accession Number: 20151007-5249.

Comments Due: 5 p.m. ET 10/28/15.

Docket Numbers: ER15-2426-000.

Applicants: Northern Indiana Public Service Company.

Description: Amendment to August 12, 2015 Proposed Reactive Power Revenue Requirements of Northern Indiana Public Service Company for twelve generating facilities located in the MISO pricing zone under ER15-2426.

Filed Date: 10/7/15.

Accession Number: 20151007-5243.

Comments Due: 5 p.m. ET 10/13/15.

Docket Numbers: ER16-34-000.

Applicants: Harborside Energy, LLC.

Description: Baseline eTariff Filing: Market Based Rate Tariff to be effective 11/5/2015.

Filed Date: 10/8/15.

Accession Number: 20151008-5001.

Comments Due: 5 p.m. ET 10/29/15.

Docket Numbers: ER16-35-000.

Applicants: Brown's Energy Services, LLC.

Description: Baseline eTariff Filing: Market Based Rate Tariff to be effective 11/5/2015.

Filed Date: 10/8/15.

Accession Number: 20151008-5002.

Comments Due: 5 p.m. ET 10/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2015.
Nathaniel J. Davis, Sr.,
Deputy Secretary.

[FR Doc. 2015-26701 Filed 10-20-15; 8:45 am]

BILLING CODE 6717-01-P